DEPARTMENT OF HEALTH AND HUMAN SERVICES

National Institutes of Health

National Institute on Deafness and Other Communication Disorders

Cancellation of Meeting

Notice is hereby given of the cancellation of the Communication Disorders Review Committee, June 19, 2008, 10 a.m. to June 19, 2008, 11 a.m., The Westin Washington, DC, 1400 M Street, NW., Washington, DC 20005 which was published in the Federal Register on May 30, 2008, Vol. 73, No. 105.

This meeting is combined with the meeting being held on June 18, 2008.

Dated: June 12, 2008.
Jennifer Spaeth,
Director, Office of Federal Advisory Committee Policy.

[FR Doc. E8-13824 Filed 6-18-08; 8:45 am]

BILLING CODE 4140-01-P